DEPARTMENT OF ENERGY

Federal Energy Regulatory Commission

Combined Notice of Filings #1

April 23, 2009.

Take notice that the Commission received the following exempt wholesale generator filings:

Docket Numbers: EG09-37-000.

Applicants: Optim Energy Cedar Bayou 4, LLC

Description: Notice of Self Certification of Exempt Wholesale Generator Status of Optim Energy Cedar Bayou 4, LLC.

Filed Date: 04/22/2009

Accession Number: 20090422-5119.

Comment Date: 5 p.m. Eastern Time on Wednesday, May 13, 2009.

Take notice that the Commission received the following electric rate filings:

Docket Numbers: ER09-604-001.

Applicants: UNS Electric, Inc.

Description: UNS Electric, Inc submits for acceptance First Revised Sheet 24A et al to its FERC Electric Tariff, First Revised Volume 1 to be effective 10/1/08.

Filed Date: 04/21/2009.

Accession Number: 20090422-0124.

Comment Date: 5 p.m. Eastern Time on Tuesday, May 12, 2009.

Docket Numbers: ER09-781-001.

Applicants: Otter Tail Power Company

Description: Otter Tail Power Company submits Substitute Original Sheet 2 et al. to its FERC Electric Tariff, Original Volume 2.

Filed Date: 04/22/2009.

Accession Number: 20090423-0031.

Comment Date: 5 p.m. Eastern Time on Monday, May 4, 2009.

Docket Numbers: ER09-1004-001.

Applicants: Southwest Power Pool, Inc.

Description: Southwest Power Pool submits an amendatory filing the NITSA, the Missouri Agreement and the NOA with revised designations reflecting an effective date of 4/15/09.

Filed Date: 04/22/2009.

Accession Number: 20090423-0030.

Comment Date: 5 p.m. Eastern Time on Wednesday, May 13, 2009.

Docket Numbers: ER09-1022-000.

Applicants: Exelon New England Holdings, LLC.

Description: Motion requesting limited waiver of market rule 1, FCM qualification rules of Exelon Corporation.

Filed Date: 04/21/2009.

Accession Number: 20090422-0125.

Comment Date: 5 p.m. Eastern Time on Tuesday, May 12, 2009.

Docket Numbers: ER09-1023-000.

Applicants: Northwestern Corporation.

Description: North Western Corporation submits Original Sheet 1et al. to its FERC Electric Rate Schedule 264.

Filed Date: 04/21/2009.

Accession Number: 20090422-0127.

Comment Date: 5 p.m. Eastern Time on Tuesday, May 12, 2009.

Docket Numbers: ER09-1024-000.

Applicants: American Electric Power Service Corporation.

Description: AEP Texas Central Company submits new and revised sheets of the transmission interconnection agreement between AEPTCC and Electric Transmission Texas, LLC.

Filed Date: 04/22/2009.

Accession Number: 20090422-0309.

Comment Date: 5 p.m. Eastern Time on Wednesday, May 13, 2009.

Docket Numbers: ER09-1026-000.

Applicants: The Detroit Edison Company.

Description: The Detroit Edison Co. submits revisions to its Ancillary Services Tariff.

Filed Date: 04/22/2009.

Accession Number: 20090422-0345.

Comment Date: 5 p.m. Eastern Time on Wednesday, May 13, 2009.

Docket Numbers: ER09-1027-000.

Applicants: New York Independent System Operator, Inc.

Description: New York Independent Systems Operator, Inc. submits for acceptance Seventh Revised Sheet 3 et al. to its FERC Electric Tariff, Original Volume 1.

Filed Date: 04/22/2009.

Accession Number: 20090423-0032.

Comment Date: 5 p.m. Eastern Time on Wednesday, May 13, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protest.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-9891 Filed 4-29-09; 8:45 am]

BILLING CODE 6717-01-P